FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201326.

Agreement Name: Sallaum Lines/NYK Space Charter Agreement.

Parties: Nippon Yusen Kaisha and Sallaum Lines DMCC.

Filing Party: Kristen Chung; NYK Line (North America) Inc.

Synopsis: This Agreement authorizes the Parties to charter space to/from one another for carriage of vehicles or other Ro/Ro cargo in the trade between the U.S. East and Gulf Coasts and ports in Europe.

Proposed Effective Date: 12/5/2019.

Location: https://www2.fmc.gov/FMC.Agreements.Web/Public/AgreementHistory/26450.

Dated: December 6, 2019.
Rachel E. Dickon,
Secretary.

[FR Doc. 2019-26677 Filed 12-10-19; 8:45 am]

BILLING CODE P